DEPARTMENT OF EDUCATION

34 CFR Chapter III

[ED-2014-OSERS-0047]

Final Priority; National Institute on Disability and Rehabilitation Research—Rehabilitation Research and Training Centers

AGENCY: Office of Special Education and Rehabilitative Services, Department of Education.

ACTION: Final priority.

[CFDA Number: 84.133B-8.]

SUMMARY: The Assistant Secretary for Special Education and Rehabilitative Services announces a priority for the Rehabilitation Research and Training Center (RRTC) Program administered by the National Institute on Disability and Rehabilitation Research (NIDRR). Specifically, we announce a priority for an RRTC on Family Support. The Assistant Secretary may use this priority for competitions in fiscal year (FY) 2014 and later years. We take this action to focus research attention on an area of national need. We intend the priority to contribute to improved outcomes for individuals with disabilities and family members who provide assistance to them.

DATES: Effective Date: This priority is effective August 8, 2014.

FOR FURTHER INFORMATION CONTACT: Patricia Barrett, U.S. Department of Education, 400 Maryland Avenue SW., Room 5142, Potomac Center Plaza (PCP), Washington, DC 20202-2700. Telephone: (202) 245-6211 or by email: patricia.barrett@ed.gov.

If you use a telecommunications device for the deaf (TDD) or a text telephone (TTY), call the Federal Relay Service (FRS), toll free, at 1-800-877-8339.

SUPPLEMENTARY INFORMATION: Purpose of Program: The purpose of the Disability and Rehabilitation Research Projects and Centers Program is to plan and conduct research, demonstration projects, training, and related activities, including international activities, to develop methods, procedures, and rehabilitation technology that maximize the full inclusion and integration into society, employment, independent living, family support, and economic and social self-sufficiency of individuals with disabilities, especially individuals with the most severe disabilities, and to improve the effectiveness of services authorized under the Rehabilitation Act of 1973, as amended (Rehabilitation Act).

Rehabilitation Research and Training Centers

The purpose of the RRTCs, which are funded through the Disability and Rehabilitation Research Projects and Centers Program, is to achieve the goals of, and improve the effectiveness of, services authorized under the Rehabilitation Act through well-designed research, training, technical assistance, and dissemination activities in important topical areas as specified by NIDRR. These activities are designed to benefit rehabilitation service providers, individuals with disabilities, family members, policymakers, and other research stakeholders. Additional information on the RRTC program can be found at: http://www2.ed.gov/programs/rrtc/index.html#types.

Program Authority: 29 U.S.C. 762(g) and 764(b)(2).

Applicable Program Regulations: 34 CFR part 350.

We published a notice of proposed priority (NPP) for this program in the Federal Register on March 24, 2014 (79 FR 15928). That notice contained background information and our reasons for proposing the particular priority.

There are differences between the proposed priority and this final priority as discussed in the Analysis of Comments and Changes section.

Public Comment: In response to our invitation in the notice of proposed priority, 16 parties submitted comments.

Generally, we do not address technical and other minor changes.

Analysis of Comments and Changes: An analysis of the comments and of any changes in the priority since publication of the notice of proposed priority follows.

Comment: One commenter requested that NIDRR modify the priority to require the RRTC to address how families of people with disabilities can better support the adoption and use of new technologies by their family members who have disabilities.

Discussion: Nothing in the priority precludes an applicant from proposing to focus on ways that families of people with disabilities can better support the adoption and use of new technologies by individuals with disabilities. However, NIDRR does not wish to further specify the research requirements in the way suggested by the commenter and thereby limit the number and breadth of applications submitted under this priority. The peer review process will determine the merits of each proposal.

Changes: None.

Comment: One commenter asked about the intended duration of research under this RRTC, and when the products of the research will be available for use by family caregivers.

Discussion: NIDRR plans to fund this RRTC for a total of five years. NIDRR allows applicants to propose their timeline of activities within the five-year period, and so the timeline for the availability of research-based tools has not yet been established. However, typically RRTCs disseminate their research-based tools and products in their fourth and fifth years. NIDRR will work with the RRTC to ensure that research-based tools and informational products are disseminated in a timely fashion.

Changes: None.

Comment: One commenter asked whether the RRTC would be conducting case studies, and whether case studies would include middle-class families as well as families in underserved communities.

Discussion: This priority does not specify the research methods to be used by the RRTC and does not require case studies. Applicants have the latitude to specify the research methods that they plan to employ. The priority also does not specify the socioeconomic background of research participants. The peer review process will determine the merits of each proposal.

Changes: None.

Comment: One commenter asked whether unspecified regional centers will be a mechanism for disseminating the products of the RRTC under paragraph (f). Four other commenters recommended that NIDRR expand its list of technical assistance network members in paragraph (f) to include a number of specific organizations, including University Centers for Excellence in Developmental Disabilities, Area Agencies on Aging, State Agencies on Aging, Lifespan Respite Grantees, the Long-Term Quality Alliance, Eldercare Workforce Alliance, and the National Coalition on Care Coordination.

Discussion: Paragraph (f) of the priority specifies a number of organizations that the RRTC should include in its network of technical assistance providers and advocacy entities. However, NIDRR has clearly stated that the RRTC's network is not limited to the organizations highlighted in paragraph (f). Nothing in the priority precludes applicants from proposing to include other organizations in its network. The peer review process will determine the merits of each proposal.

Changes: None.

Comment: One commenter asked whether NIDRR intends the work of this RRTC to influence laws and policies related to family caregiving, including the Family and Medical Leave Act.

Discussion: As stated in the opening paragraph of the priority, NIDRR does intend the RRTC's work to inform the design, implementation, and improvement of Federal and State policies and programs related to assisting families in support, assistance, and nurturing of family members with disabilities. The RRTC's work may be relevant to the Family and Medical Leave Act, but the priority for the RRTC does not require a focus on this specific law.

Changes: None.

Comment: Two commenters expressed support for the priority's research and data analysis aims, but asked for clarification about how the RRTC will translate the research findings into services and support for families, and for how long.

Discussion: As stated in the opening paragraph of the priority, the RRTC will serve families of individuals with disabilities by providing them with information to guide their informed choice of community- and family-based services. NIDDR also believes that these families will benefit from the work of the RRTC that is used to inform and improve policies and programs that provide assistance to individuals with disabilities and their families. The RRTC will translate its research findings into these services and supports for families by fulfilling the information dissemination, technical assistance, and training requirements found in paragraphs (e), (f), and (g). Applicants have the latitude to specify the dissemination, technical assistance, and training methods that they plan to employ. While NIDRR plans to support this RRTC for five years, we anticipate that the RRTC's products will continue to inform policy and practice beyond the five-year life of the grant.

Changes: None.

Comment: One commenter noted that the well-being of caregivers directly contributes to the outcomes of the individuals with disabilities to whom they provide support. This commenter suggested that NIDRR modify the priority to require research to identify best practices in interventions for caregivers. The commenter also noted that research focused on aging populations has led to specific interventions for caregivers, and that this priority could be modified to require the RRTC to transfer knowledge of these interventions to family caregivers of younger individuals with disabilities.

Discussion: NIDRR agrees with the commenter that the RRTC should conduct research to identify and evaluate existing practices for serving and supporting the well-being of family caregivers of individuals with disabilities, as reflected in the proposed and final priority. For example, paragraph (c) of the priority requires the RRTC to identify and evaluate well-designed, effective State or local family support programs. NIDRR agrees that the RRTC could look to previous research conducted on aging populations to identify promising support services for families of younger individuals with disabilities. However, we do not want to preclude applicants from proposing other options for identifying promising practices by requiring all applicants to use this particular strategy. The peer review process will determine the merits of each proposal.

Changes: None.

Comment: One commenter suggested that the priority be revised to require the RRTC to engage people with disabilities and their families, national caregiving advocacy organizations, and home-and community-based service providers. The commenter makes this recommendation to maximize the relevance of the RRTC's research.

Discussion: Proposed and final paragraph (d) provides a list of stakeholder groups that must be included in the RRTC's activities to maximize the relevance and usefulness of the RRTC's products, including individuals with disabilities and their families and service providers. Although paragraph (d) does not explicitly include national caregiving advocacy organizations, NIDRR has clearly stated in this paragraph that the RRTC's network of stakeholders is not limited to the organizations listed in paragraph (d). Each applicant may propose and justify the composition of its stakeholder network. The peer review process will determine the merits of each proposal.

Changes: None.

Comment: One commenter recommended that NIDRR specify whether it intends for the RRTC to have a diversity of disability types in its target population, or whether there is a particular disability population that the RRTC should focus on. This commenter stated a preference for having the RRTC conduct its activities across disability categories and age groups.

Discussion: NIDRR agrees with the commenter that the RRTC's target population should be across disability categories. Family support is important to all people with disabilities, and we want the work of the RRTC to be widely applicable across disability categories.

Changes: NIDRR has revised the opening paragraph of the priority to require that the RRTC's work be across disability categories, including physical, sensory, intellectual and developmental, and psychiatric disabilities.

Comment: Three commenters noted that the field of family caregiving research has historically been divided, with researchers in the field of aging being unfamiliar with the work of researchers in the disability field, and vice versa. These commenters noted that the RRTC priority is an opportunity to bridge this divide and to establish a unified framework and research agenda on family support. These commenters recommended that NIDRR modify the priority to make it explicitly inclusive of individuals with disabilities of all ages, and to require the RRTC to conduct research and related activities “across the lifespan.”

Discussion: NIDRR agrees with the commenter that the RRTC should be inclusive of individuals with disabilities of all ages. This will help to establish a unified framework and research agenda on family support and ensure that the RRTC's work is widely applicable to individuals with disabilities of all ages.

Changes: NIDRR has revised the introductory paragraph of the priority to require the RRTC's work to be inclusive of individuals with disabilities of all ages.

Comment: One commenter suggested that the priority require inclusion of families of veterans and military members with disabilities, including aging and older veterans with disabilities.

Discussion: NIDRR encourages the inclusion of veterans with disabilities, as well as their family members who may have disabilities. Nothing in the priority precludes applicants from including particular subpopulations of individuals with disabilities, including veterans. However, we do not want to limit the target populations that can be proposed by applicants by requiring all applicants to do so.

Changes: None.

Comment: Four commenters noted that the experiences and perspectives of racial and ethnic minorities are typically not included in research on family support. These commenters recommended that NIDRR modify the priority to require the RRTC to include a focus on underserved racial and ethnic families in all of its activities.

Discussion: The regulations that govern NIDRR's administration of the RRTC program require applicants to demonstrate how they will address, in whole or in part, the needs of individuals with disabilities from minority backgrounds. NIDRR describes this requirement in the notice inviting applications that accompanies this final priority. To emphasize the importance of this requirement, we have also revised the opening paragraph of the priority to include a focus on racial and ethnic minority families with disabilities.

Changes: NIDRR has modified the opening paragraph of the priority to require that applicants include a focus on racial and ethnic minority families with disabilities.

Comment: One commenter noted that paragraph (c)(ii) of the proposed priority stated that the RRTC may use National Core Indicators as a means of monitoring, tracking, and evaluating States' approaches to supporting family caregivers. This commenter asked whether this data is readily available and whether there is a cost associated with its use.

Discussion: The National Association of State Directors of Developmental Disabilities Services (NASDDS) maintains the National Core Indicators database and makes the data available to researchers upon request, following submission of a research protocol. There is a fee of $250 for processing such data requests. The NASDDS provides information about, and reports generated from, the National Core Indicators on the following Web site: www.nationalcoreindicators.org/.

Changes: None.

Comment: One commenter noted that the proposed priority does not require the RRTC to conduct research on the outcomes of family support for individuals with disabilities and their families. This commenter and one other recommended that NIDRR modify the priority to require research on the long-term outcomes associated with receiving family support services.

Discussion: The priority requires the RRTC to identify and evaluate promising practices under paragraph (c). These activities could involve the RRTC conducting this outcomes research. The end of paragraph (c)(ii) states that the RRTC may identify and assess methods for evaluating the outcomes for individuals and families receiving family support services. Nothing in the priority precludes the RRTC from conducting outcomes research to carry out these activities. However, we do not want to preclude applicants from proposing other means to fulfill this requirement, by requiring all applicants to conduct outcomes research. The peer review process will determine the merits of each proposal.

Changes: None.

Comment: One commenter requested that NIDRR broaden the definition of “family caregiver” provided in the background section of the NPP to include all family caregiving populations, regardless of family relationship. This commenter also requested that NIDRR expand the list of family members that are provided as examples in proposed paragraph (d) to include spouses, partners, other relatives, and friends who have significant relationships with, and who provide a broad range of assistance for, a person with a disability.

Discussion: NIDRR agrees that the concept of family member should be broadened to allow for research on any caregivers who have a family relationship with the individual with disability. We believe that a definition that is more inclusive of individuals who function as family members would help clarify the meaning of family. Within this broad and flexible framework, applicants are free to define and justify their target population of family caregivers.

Changes: We have added a definition of family member at the beginning of the priority paragraph that a clarifies that a family member may be any individual related by blood or affinity whose close association with an individual is the equivalent of a family relationship and can be considered a family caregiver.

Comment: One commenter recommended expanding the list of topics in proposed paragraph (e) to include the development and testing of family caregiver assessment tools, development of training for health care professionals on the needs of family caregivers, and research on interactions between healthcare professionals and family caregivers.

Discussion: NIDRR does not intend the list of topics in paragraph (e) to be comprehensive. The priority specifically states that the topics are not limited to those listed in paragraph (e). Nothing in the priority precludes applicants from proposing to address the topics described by the commenters. However, NIDRR does not want to preclude applicants from proposing and justifying other topics to be addressed under this paragraph by creating a large number of required topics.

Changes: None.

Comment: Two commenters stated that respite care is an important family support service and suggested that NIDRR revise the priority to require research and training related to this topic.

Discussion: NIDRR agrees with the commenters about the importance of respite care as a family support service. Paragraph (b) requires research on the extent to which family caregivers receive assistance, including respite care. Applicants are free to plan and conduct research on respite care under paragraphs (a), (b), and (c) of this priority and to provide training to respite care providers under paragraph (g) of this priority. However, NIDRR does not want to preclude applicants from proposing and justifying other topics to be addressed by requiring all applicants to focus on respite care.

Changes: None.

Comment: One commenter noted that the proposed activities of the RRTC could complement the Administration For Community Living's (ACL) Community of Practice (CoP) on Life Span Supports for Self-Advocates and their Families, and encouraged NIDRR to ensure that the RRTC will work with the CoP. This commenter also suggested that the RRTC could emphasize the importance of future planning for individuals with disabilities, who often outlive their parental caregivers.

Discussion: NIDRR agrees that the RRTC could work with ACL's CoP on Life Span Supports. NIDRR will work closely with ACL in administering this RRTC and ensuring that the two efforts are complementary. In regard to the commenter's second suggestion, nothing in the priority precludes applicants from focusing their research, training, technical assistance, or related activities on future planning for individuals with disabilities and their families. However, NIDRR does not wish to further specify the requirements in the way suggested by the commenter and thereby limit the breadth of applications submitted under this priority. The peer review process will determine the merits of each proposal.

Changes: None.

Comment: Two commenters emphasized the importance of relationships between individuals with disabilities and their siblings. One commenter requested that NIDRR modify the priority to emphasize the importance of including siblings of individuals with disabilities in the RRTC's work.

Discussion: NIDRR agrees that the relationship between individuals with disabilities and their siblings is important. Consistent with the proposed priority, paragraph (d) of the final priority lists siblings in the list of key stakeholders who must be included in the research and research planning activities of the RRTC. Nothing in the priority precludes applicants from including a focus on siblings in other RRTC activities as well.

Changes: None.

Final Priority

Family Support

The Assistant Secretary for Special Education and Rehabilitative Services establishes a priority for an RRTC on Family Support. For purposes of this priority, family member is defined as any individual related by blood or affinity whose close association with an individual is the equivalent of a family relationship. The RRTC's work is intended to inform the design, implementation, and continuous improvement of Federal and State policies and programs related to assisting families in support, assistance, and nurturing of family members with disabilities. The RRTC will also identify and develop information for individuals with disabilities and their family members to guide their informed choice of community and family-based service and support options that best meet their needs. The RRTC's work must be conducted in a manner that takes the needs and experiences of multiple disability groups and their families into consideration. These broad disability groups, as described in NIDRR's Long-Range Plan, include physical disabilities, sensory disabilities, intellectual and developmental disabilities, and psychiatric disabilities. The RRTC's work must also be inclusive of individuals with disabilities of all ages, and the RRTC's research and related activities must be conducted in a manner that addresses the needs and experiences of people with disabilities and their families across the lifespan. The RRTC's work must include a focus on the family support needs and experiences of racial and ethnic minority families who support family members with disabilities.

The RRTC must be designed to contribute to better understanding of the phenomenon of family support; to improved community living and participation, health and function, and employment outcomes of individuals with disabilities supported by family members; and to effective support of family caregivers by—

(a) Developing and implementing a project research plan to identify the key elements of family support and family support programs and policy. This plan, once implemented by the grantee, must contribute to identification or development of relevant and high-quality data and information that will serve as an empirical foundation for improving assistance to families in support roles and to family support policies and programs. This task includes:

(i) Developing a conceptual framework for research on family support that includes both individual and societal level characteristics that influence provision of family support, considering existing knowledge about family support barriers in other populations.

(ii) Developing and prioritizing a list of research questions and evaluation topics that, when addressed, will lead to research-based information that can be used to improve family support policies, practices, programs, communications, and outcomes.

(iii) Working with NIDRR and Administration For Community Living (ACL) to identify relevant data sets and informational resources that can be analyzed to address the questions and topics in the research plan; and

(iv) Working with NIDRR and ACL to identify gaps in data and information resources that are available to address the questions and topics in the research plan and to identify strategies to fill those gaps.

(b) Conducting research and research syntheses to describe the nature and extent of support that is being provided to individuals with disabilities by family members, and the extent to which the family caregivers themselves receive assistance in the form of education/training, counseling/psychosocial support, personal care, homemaker services, respite care, and other relevant supports, as well as the amounts of assistance received and the private and public sources of payment for such assistance;

(c) Conducting research and research syntheses to identify and evaluate promising practices that States have used and could be adopted in other States to improve long-term services and supports for families of individuals with disabilities. This task includes—

(i) Identifying components of well-designed, effective State or local family support programs; and

(ii) Identifying and assessing methods for monitoring, tracking, and evaluating States' approaches to supporting families, which may include, but are not limited to, methods for monitoring the experiences of individuals and costs for recipients of family support services within broader existing long-term services and supports evaluation programs, such as the National Core Indicators or Participant Experience Survey; methods for understanding, monitoring, and responding to the unique needs of individual families, including the family members with and without disabilities; and methods for evaluating the outcomes for individuals and families receiving family support services.

(d) Identifying and involving key stakeholders in the research and research planning activities conducted under paragraphs (a), (b), and (c) to maximize the relevance and usefulness of the research products being developed. Stakeholders must include, but are not limited to, individuals with disabilities and their families (including, but not limited to, parents, siblings, and sons/daughters); national, State, and local-level policymakers; service providers; and relevant researchers in the field of disability and rehabilitation research;

(e) Identifying, evaluating, and disseminating accessible information at the national, State, service provider, and individual levels on topics of importance to sustaining and developing appropriate and effective family support services, practices, policies, and programs. These topics include, but are not limited to: Usefulness and effectiveness of current family support resources for families of differing circumstances; the roles of, and impact upon, families in the transitions from fee-for-service to integrated/managed long-term service and support systems; the roles and responsibilities of individuals with disabilities and their family members in the transition from agency-directed to consumer-directed services; best practices in supporting families both within and outside of disability services; accessing and coordinating community supports; the role of family-to-family and peer-to-peer support systems and other social networks; and other topics to be determined in collaboration with key stakeholders, NIDRR, and ACL representatives;

(f) Establishing a network of technical assistance providers and advocacy entities to assist in synthesizing and disseminating information related to implementing high-quality family support policies, programs, and practices for individuals with disabilities. Network members should include, but are not limited to: The Aging and Disability Resource Centers, the State Councils on Developmental Disabilities; Parent Training and Information Centers; Protection and Advocacy Client Assistance Programs; Centers for Independent Living; and private sector organizations that are recognized as national leaders in promoting family support policies, programs, and research; and

(g) Serving as a national resource center related to family support by—

(i) Providing information and technical assistance to individuals with disabilities, family members, service providers, policymakers, and other key stakeholders;

(ii) Providing training to facilitate understanding of the effective use of private and public options for the provision of supports to families, including training at the graduate, pre-service, and in-service levels, and to individuals with disabilities, families, and rehabilitation and other service providers. This training may be provided through conferences, workshops, public education programs, in-service training programs, and similar activities; and

(iii) Collaborating as appropriate with NIDRR's RRTC on Community Living Policy.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this final priority only on a reasoned determination that its benefits justify its costs. In choosing among alternative regulatory approaches, we selected those approaches that maximize net benefits. Based on the analysis that follows, the Department believes that this regulatory action is consistent with the principles in Executive Order 13563.

We also have determined that this regulatory action does not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

The benefits of the Disability and Rehabilitation Research Projects and Centers Program have been well established over the years, as projects similar to the one envisioned by the final priority have been completed successfully. The new RRTC will generate, disseminate, and promote the use of new information that will improve outcomes for individuals with disabilities in the areas of community living and participation, employment, and health and function.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: July 3, 2014.
Michael K. Yudin,
Acting Assistant Secretary for Special Education and Rehabilitative Services.

[FR Doc. 2014-16085 Filed 7-8-14; 8:45 am]

BILLING CODE 4000-01-P